DEPARTMENT OF JUSTICE

Foreign Claims Settlement Commission

Privacy Act of 1974; Systems of Records Notice

AGENCY: Foreign Claims Settlement Commission; Justice.

ACTION: Notice of deletion of systems of records.

SUMMARY: The Foreign Claims Settlement Commission (FCSC) hereby publishes notice of the deletion of two records systems from its Privacy Act Systems of Records Notice last published on June 10, 1999 (64 FR 31296). The systems in question are “Poland, Claims Against-Justice/FCSC-15 and “General War Claims Program-Justice/FCSC-22.” The reason for this deletion is to reflect the transfer of the two records systems to the control of the National Archives as permanent historical records.

EFFECTIVE DATE: The systems of records designated “Poland, Claims Against-Justice/FCSC-15 and “General War Claims Program-Justice/FCSC-22”, Claims of less than $250,000 Against” shall be deleted effective June 13, 2002. The existing systems of records otherwise continue in effect.

FOR FURTHER INFORMATION CONTACT: Judith H. Lock, Administrative Officer, Foreign Claims Settlement Commission, 600 E Street NW., Room 6002, Washington, DC 20579, telephone (202) 616-6975, fax (202) 616-6993.

Dated at Washington DC, June 7, 2002.
Mauricio J. Tamargo,
Chairman.

[FR Doc. 02-14844 Filed 6-12-02; 8:45 am]

BILLING CODE 4410-BA-P